FEDERAL COMMUNICATIONS COMMISSION

47 CFR Part 73

[DA 04-502, MM Docket No. 01-82, RM-10068]

Television Broadcast Service; Bend, OR

AGENCY: Federal Communications Commission.

ACTION: Final rule.

SUMMARY: The Commission, at the request of 3-J Broadcasting Company, allots channel 51 to Bend, Oregon, as the community's second local commercial television service. See 66 FR 20127, April 19, 2001. TV channel 51 can be allotted to Bend, Oregon, with a zero offset in compliance with the minimum distance separation requirements. The coordinates for channel 51 are 44-03-30 N. and 121-18-30 W. With this action, this proceeding is terminated.

DATES: Effective April 19, 2004.

FOR FURTHER INFORMATION CONTACT: Pam Blumenthal, Media Bureau, (202) 418-1600.

SUPPLEMENTARY INFORMATION: This is a synopsis of the Commission's Report and Order, MM Docket No. 01-82, adopted February 25, 2004, and released March 5, 2004. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via-e-mail qualexint@aol.com.

List of Subjects in 47 CFR Part 73

Television broadcasting.

Part 73 of Title 47 of the Code of Federal Regulations is amended as follows:

PART 73—[AMENDED]

1. The authority citation for part 73 continues to read as follows:

Authority: 47 U.S.C. 154, 303, 334 and 336.

§ 73.606 [Amended]

2. Section 73.606(b), the Table of Television Allotments Under Oregon, is amended by adding TV channel 51 at Bend.

Federal Communications Commission.
Barbara A. Kreisman,
Chief, Video Division, Media Bureau.

[FR Doc. 04-6319 Filed 3-19-04; 8:45 am]

BILLING CODE 6712-01-P